DEPARTMENT OF THE INTERIOR

Bureau of Land Management

[OR-015-1610-DP; GP-01-0272]

Availability for the Draft Lakeview Resource Management Plan (RMP) and Environmental Impact Statement (EIS)

AGENCY: Lakeview District (Oregon), Bureau of Land Management: (OR-015-1610-DP; GP-01-0272, DOI.

ACTION: Notice of availability for the Draft Lakeview Resource Management Plan (RMP) and Environmental Impact Statement (EIS).

SUMMARY: In accordance with the Federal Land Policy and Management Act (FLPMA) and the National Environmental Policy Act (NEPA), this document provides notice that the Bureau of Land Management (BLM) intends to make the draft RMP/EIS available for public review and comment. This planning activity encompasses approximately 3.2 million acres of public land managed by the Lakeview Resource Area, Lakeview District and located in Lake and Harney Counties in southeastern Oregon. In addition, a small, contiguous portion of Modoc and Washoe Counties located in northeastern California and northwestern Nevada falling within the administrative boundary of the Surprise Field Office in Cedarville, California, but managed by the Lakeview Resource Area is also included for analysis purposes. The BLM has and will continue to work closely with all interested parties to identify the management decisions that are best suited to the needs of the public. This collaborative process will take into account local, regional, and national needs and concerns. This notice initiates the public review process on the draft RMP/EIS. The public is invited to review and comment on the range and adequacy of the draft alternatives and associated environmental effects.

DATES: The comment period will end 90 days after publication of the Environmental Protection Agency's Notice of Availability of this draft plan and environmental impact statement in the Federal Register. Comments on the draft RMP/EIS should be received on or before the end of the comment period at the address listed below.

Public Participation: Public meetings will be held during the comment period. In order to ensure local community participation and input, public meetings will be held in Lakeview, North Lake County, and Bend, Oregon. Early participation by all those interested is encouraged and will help determine the future management of public lands in the Lakeview Resource Area. At least 15 days public notice will be given for activities where the public is invited to attend. All individuals, organizations, agencies, and tribes with a known interest in this planning effort have been sent a copy of the document for review. Written comments will be accepted throughout the planning process at the address shown below. For comments to be most helpful, they should relate to specific concerns or conflicts that are within the legal responsibilities of the BLM and they must be able to be resolved in this planning process. Specific dates and locations of meetings and comment deadlines will be announced through the local news media, newsletters and the BLM Web site (www.or.blm.gov/Lakeview).

ADDRESSES: Written comments should be sent to Dwayne Sykes, RMP Team Leader, Bureau of Land Management, HC 10 Box 337, Lakeview, Oregon 97630. Documents pertinent to this proposal may be examined at the Lakeview Resource Area office in Lakeview, Oregon and local libraries. Comments, including names and street addresses of respondents, will be available for public review at the Lakeview Resource Area office during regular business hours 7:45 a.m. to 4:30 p.m., Monday through Friday, except holidays, and may be published as part of the Final EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION: For further information and/or to have your name added to our mailing list, contact Dwayne Sykes at (541) 947-2177 (Phone), (541) 947-6399 (Fax), or e-mail at d1sykes@or.blm.gov.

SUPPLEMENTARY INFORMATION: This land use plan focuses on the principles of multiple use management and sustained yield as prescribed by Section 202 of the FLPMA. This plan will provide direction for management of the public lands within the Lakeview Resource Area for 15-20 years after the plan is completed. It will replace all or portions of three nearly 20 year old existing land use plans covering the Lakeview Resource Area. The draft RMP/EIS considers and analyzes five (5) alternatives (A-E), including the No Action or Present Management alternative, with Alternative D identified as the agency's Preferred Alternative. These alternatives have been developed based on extensive public input following scoping (July 1999), review of the summary of the Analysis of the Management Situation (July 2000) and numerous meetings with local governments, tribes and the Southeast Oregon Resource Advisory Council (RAC). The alternatives provide for a wide array of alternative land use allocations and management direction. The alternatives provide for variable levels of commodity production, resource protection, and authorized land and resource uses, including utility corridors, energy and non-energy mineral leasing, livestock grazing and various forms of recreation. A final environmental impact statement and proposed Lakeview Resource Management Plan is expected to be available for public review in early 2002.

Dated: August 23, 2001.
Scott R. Florence,
Field Manager, Lakeview Resource Area.

[FR Doc. 01-22943 Filed 9-12-01; 8:45 am]

BILLING CODE 4310-33-P